OVERSEAS PRIVATE INVESTMENT CORPORATION

Sunshine Act Notice—December 8, 2011 Board of Directors Meeting

DATES: Time and Date: Thursday, December 8, 2011, 10 a.m. (Open Portion), 10:15 a.m. (Closed Portion).

Place: Offices of the Corporation, Twelfth Floor Board Room, 1100 New York Avenue NW., Washington, DC.

Status: Meeting open to the Public from 10 a.m. to 10:15 a.m.; Closed portion will commence at 10:15 a.m. (approx.).

Matters To Be Considered:

1. President's Report.

2. Tribute:

C. William Swank, Samuel E. Ebbesen, Diane Ingles Moss, Patrick J. Durkin, Deborah Burand.

3. Confirmation:

Don S. De Amicis as Vice President and General Counsel.

4. Minutes of the Open Session of the September 22, 2011 Board of Directors Meeting.

5. Minutes of the Open Session of the October 27, 2011 Board of Directors Meeting.

Further Matters To Be Considered: (Closed to the Public 10:15 a.m.):

1. Reports.

2. Insurance Project—Middle East and Africa.

3. Finance Project—Maghreb and North Africa.

4. Minutes of the Closed Session of the September 22, 2011 Board of Directors Meeting.

5. Minutes of the Closed Session of the October 27, 2011 Board of Directors Meeting.

6. Pending Major Projects.

Written summaries of the projects to be presented will be posted on OPIC's Web site on or about November 17, 2011.

FOR FURTHER INFORMATION CONTACT: Contact Person for Information: Information on the meeting may be obtained from Connie M. Downs at (202) 336-8438.

November 17, 2011.
Connie M. Downs,
Corporate Secretary, Overseas Private Investment Corporation.

[FR Doc. 2011-30084 Filed 11-17-11; 11:15 am]

BILLING CODE 3210-01-P